DEPARTMENT OF HEALTH AND HUMAN SERVICES

Centers for Disease Control and Prevention

Strengthening and Expanding HIV/AIDS Treatment, Care and Support for Prostitutes and Their Associated Sexual Partners in the Republic of Haiti as Part of the President's Emergency Plan for AIDS Relief

Announcement Type: New.

Funding Opportunity Number: CDC-RFA-AA158.

Catalog of Federal Domestic Assistance Number: 93.067.

Key Dates: Application Deadline: September 29, 2005.

I. Funding Opportunity Description

Authority: This program is authorized under sections 301(a) and 307 of the Public Health Service Act [42 U.S.C. sections 241 and 2421] as amended, and under Public Law 108-25 (United States Leadership Against HIV/AIDS, Tuberculosis and Malaria Act of 2003) [22 U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 2 in the Caribbean. The five-year strategy for the Emergency Plan is available at the following Internet address: http://www.state.gov/s/gac/rl/or/c11652.htm.

Over the same time period, as part of a collective national response, the Emergency Plan goals specific to Haiti are to treat at least 25,000 HIV-infected individuals; care for 125,000 HIV-affected individuals, including orphans.

Purpose: An essential element of preventing new cases of HIV in Haiti is to ensure that groups engaged in high-risk behavior ¹ have adequate access to screening, treatment, and care facilities. Haiti's HIV prevalence rate in adults is reported to be 5.6 percent, according to the 2004 Annual Report of the Joint United Nations Programme on HIV/AIDS (UNAIDS). Access to prevention and treatment is limited among the Haitian population because of an underdeveloped public health infrastructure and a lack of clinical capacity.

¹ Behaviors that increase risk for HIV transmission including engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

This cooperative agreement seeks to fund HIV/AIDS education, prevention, and treatment activities targeted at prostitutes and their associated sexual partners in Haiti, including by discouraging men from visiting prostitutes. Extremely high-risk groups are a priority for the national prevention effort in Haiti.

Prostitutes and their associated sexual partners have received little to no attention in the Haitian national prevention effort to stop the spread of HIV/AIDS. Prostitutes in Haiti engage in an illegal profession, and are thus very secretive and loosely organized through informal and often clandestine networks, and establishing a relationship with them to provide education, prevention, care and treatment is very difficult. This high-risk population needs to be much more engaged in the national prevention effort against the spread of HIV/AIDS in Haiti.

Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

Measurable outcomes of the program will be in alignment with the numerical goals of the President's Emergency Plan for AIDS Relief and with one (or more) of the following performance goal(s) for the National Center for HIV, STD and TB Prevention (NCHSTP) of the Centers for Disease Control and Prevention (CDC) within HHS: Increase the proportion of HIV-infected people who are linked to appropriate prevention, care and treatment services; strengthen the capacity nationwide to monitor the epidemic; develop and implement effective HIV prevention interventions; and evaluate prevention programs.

This announcement is only for non-research activities supported by HHS, including the Centers for Disease Control and Prevention (CDC). If an applicant proposes research activities, HHS will not review the application. For the definition of “research,” please see the HHS/CDC Web site at the following Internet address: http://www.cdc.gov/od/ads/opspoll1.htm.

Activities: The recipient of these funds is responsible for activities in multiple program areas designed to target underserved populations in Haiti. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in Haiti will review as part of the annual Emergency Plan for AIDS Relief Country Operational Plan review and approval process managed by the Office of the U.S. Global AIDS Coordinator. The grantee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardee Activities for this program are as follows:

1. Establish anonymous clinics in Haiti for populations engaged in high-risk behavior ² to address prevention, treatment and care to decrease the transmission of HIV/AIDS.

² Behaviors that increase risk for HIV transmission including engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

2. Develop targeted local-language campaigns in Haiti to promote prevention, care and treatment for prostitutes and their sexual partners, including to discourage men from visiting prostitutes. Awardees may not implement condom social marketing aimed at prostitutes without promoting abstinence and faithfulness messages to current and potential clients of prostitutes.

3. Develop referral networks with local Haitian organizations (including faith-based groups) that provide advanced care and treatment and support for HIV-positive persons.

4. Develop and implement an effective monitoring and evaluation strategy according to the strategic-information guidelines established by the Office of the Global AIDS Coordinator, and report the required indicators to the Office of the U.S. Global AIDS Coordinator in a timely manner.

5. Ensure that program objectives and work plan take into account and are consistent with regional U.S. Government efforts to monitor and combat trafficking in persons. Awardee must be prepared to work with other organizations funded by the U.S. Government to conduct anti-trafficking programs in the Carribean region, especially in the border area between Haiti and the Dominican Republic.

Based on its competitive advantage and proven field experience, the winning applicant will undertake a broad range of activities to meet the numerical Emergency Plan targets outlined in this announcement.

Administration: The winning applicant must comply with all HHS management requirements for meeting participation and progress and financial reporting for this cooperative agreement (See HHS Activities and Reporting sections below for details), and comply with all policy directives established by the Office of the U.S. Global AIDS Coordinator.

In a cooperative agreement, HHS staff is substantially involved in the program activities, above and beyond routine grant monitoring.

HHS Activities for this program are as follows:

1. Organize an orientation meeting with the grantee to brief it on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

10. Provide equipment and commodities for new partner clinics acquired through a transparent and competitive process.

11. Provide funds to renovate three existing clinics that provide care to prostitutes and their associated sexual partners.

12. Provide drugs to treat sexually transmitted infections (STI) and opportunistic infections (OI), acquired through a transparent and competitive process.

13. Support an electronic medical record (EMR) database system; provide and support a surveillance database system for case notification.

14. Provide and install hardware necessary for the use of database systems, and provision of technical assistance on database use and maintenance needs.

15. Support operational research, and technical assistance for operational research.

16.Support the annual technical review of service delivery programs of new clinics.

17. Assist in organizing partner network meetings. (Such support will not include financing.)

Please note: Either HHS staff or staff from organizations that have successfully competed for funding under a separate HHS contract, cooperative agreement or grant will provide technical assistance and training.

Measurable outcomes of the program will be in alignment with the following performance goals for the Emergency Plan:

A. Prevention

Number of individuals trained to provide HIV prevention interventions, including abstinence, faithfulness, and, for populations engaged in high-risk behaviors,³ correct and consistent condom use.

³ Behaviors that increase risk for HIV transmission including engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

1. Abstinence (A) and Be Faithful (B)

• Number of community outreach and/or mass media (radio) programs that are A/B focused

• Number of individuals reached through community outreach and/or mass media (radio) programs that are A/B focused.

B. Care and Support

1. Confidential counseling and testing

• Number of patients who accept confidential counseling and testing in a health-care setting.

• Number of clients served, direct.

• Number of people trained in confidential counseling and testing, direct, including health-care workers.

2. Orphans and Vulnerable Children (OVC)

Number of service outlets/programs, direct and/or indirect.

• Number of clients (OVC) served, direct and/or indirect.

• Number of persons trained to serve OVC, direct.

3. Palliative Care: Basic Health Care and Support

• Number of service outlets/programs that provide palliative care, direct and/or indirect.

• Number of service outlets/programs that link HIV care with malaria and tuberculosis care and/or referral, direct and/or indirect.

• Number of clients served with palliative care, direct and/or indirect.

• Number of persons trained in providing palliative care, direct.

C. HIV Treatment with ART

• Number of clients enrolled in ART, direct and indirect.

• Number of persons trained in providing ART, direct.

D. Strategic Information

• Number of persons trained in strategic information, direct.

E. Expanded Indigenous Sustainable Response

• Project-specific quantifiable milestones to measure the following:

a. Indigenous capacity-building.

b.Progress toward sustainability.

II. Award Information

Type of Award: Cooperative Agreement.

HHS involvement in this program is listed in the Activities Section above.

Fiscal Year Funds: 2005.

Approximate Total Funding: $2,250,000 (This amount is an estimate, and is subject to availability of funds).

Approximate Number of Awards: One.

Approximate Average Award: $450,000 (This amount is for the first 12-month budget period, and includes direct costs.)

Floor of Award Range: $400,000.

Ceiling of Award Range: $450,000 (This ceiling is for the first 12 month budget period.)

Anticipated Award Date: October 15, 2005.

Budget Period Length: 12 months.

Project Period Length: Five years.

Throughout the project period, HHS' commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

Public and private non-profit and for-profit organizations may submit applications, such as:

• Public, non-profit organizations

• Private, non-profit organizations

• For-profit organizations

• Small, minority-owned, and women-owned businesses

• Colleges

• Universities

• Hospitals

• Community-based organizations

• Faith-based organizations

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

In addition, applicants must meet the criteria listed below:

1. Be indigenous to Haiti

2. Have documented experience in strengthening and expanding HIV/AIDS treatment, care and support for prostitutes and their associated sexual partners

3. Have established working relationships with prostitutes and have documented experience in providing care to them

4. Demonstrate current or past capacity to coordinate activities with HHS and other agencies of the United States Government

III.2. Cost Sharing or Matching Funds

Matching funds are not required for this program. Although matching funds are not required, preference will go to organizations that can leverage additional funds to contribute to program goals.

III.3. Other

If you request a funding amount greater than the ceiling of the award range, your application will be considered non-responsive, and will not enter into the review process. You will be notified that your application did not meet the submission requirements.

Special Requirements: If your application is incomplete or non-responsive to the special requirements listed in this section, it will not enter into the review process. We will notify that your application did not meet submission requirements.

• HHS will consider late applications non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

Electronic Submission: HHS strongly encourages the applicant to submit the application electronically by using the forms and instructions posted for this announcement on www.Grants.gov, the official Federal agency wide E-grant Web site. Only applicants who apply on-line are permitted to forego paper copy submission of all application forms.

Paper Submission: Application forms and instructions are available on the HHS/CDC web site, at the following Internet address: http://www.cdc.gov/od/pgo/forminfo.htm.

If you do not have access to the Internet, or if you have difficulty accessing the forms on-line, you may contact the HHS/CDC Procurement and Grants Office Technical Information Management Section (PGO-TIM) staff at: 770-488-2700. We can mail application forms to you.

IV.2. Content and Form of Submission

Application: You must submit a project narrative with your application forms. The narrative must be submitted in the following format:

• Maximum number of pages: 30. If your narrative exceeds the page limit, only the first pages which are within the page limit will be reviewed.

• Font size: 12 point unreduced

• Paper size: 8.5 by 11 inches

• Page margin size: One inch

• Double spaced

• Numbered pages

• Printed only on one side of page.

• Held together only by rubber bands or metal clips; not bound in any other way.

• Application MUST be submitted in English.

Your narrative should address activities to be conducted over the entire project period, and must include the following items in the order listed:

• Executive Summary—Provide a clear and concise summary of the proposed goals, major objectives and activities required for achievement of program goals, and amount of funding requested for budget year one of this cooperative agreement. Additionally, provide an outline of goals and objective to be addressed in years two through five.

• Need—Describe the need for such services in Haiti. Include any data on STI and HIV prevalence rates.

• Capacity—Demonstrate the current capability/capacity of organization.

• Expansion—Identify and secure appropriate (accessible and discreet) and suitable rental property for new voluntary confidential counseling and testing (VCT) clinics in the following locations: Cap Haïtien; Jacmel; Gonaïves; or Saint Marc. The confidential VCT clinics should be well-equipped to deliver prevention, care, treatment, and referral in local languages for prostitutes and their associated sexual partners, including by discouraging men from visiting prostitutes.

• Personnel—Recruit and hire clinic personnel to provide a comprehensive HIV/AIDS service-delivery facility to address the needs of the target population. This should include STI screening and treatment, confidential HIV testing and counseling, and referrals for care and treatment for HIV-positive persons.

• Training—Coordinate local language training of local health care professionals, including physicians, nurses, lab technicians, pharmacy technicians, community health workers and peer educators, in the following:

1. STI screening and treatment training.

2. Confidential counseling and testing (CT).

3. Design and implementation of care.

4. Monitoring and evaluation of programs.

5. Maintenance of laboratory equipment.

6. Laboratory safety and proper disposal of biohazardous materials protocol.

7. Use of universal precautions and the management of needle-stick or splash injuries.

8. In-service trainings for lab personnel to review new and best practice techniques and solicit “insider insight”—an account of implementation success, and challenges in an effort to identify gaps in resources or effectiveness of particular protocols.

• Laboratory Capacity—Provide basic laboratory services in support of HIV/AIDS diagnosis and treatment:

1. Perform CD4 counts.

2. Perform complete blood counts.

3. Perform HIV rapid testing.

4. Perform confirmatory HIV/AIDS testing.

5. Test for sexually transmitted infections (STI).

6. Provide counseling of test results.

7. Provide referrals to appropriate prevention, treatment care and support services.

• Drugs and Commodities—Procure drugs and commodities through a transparent and competitive process:

1. STI drugs for HIV-positive persons.

2. Condoms. Awardees may not implement condom social marketing aimed at prostitutes without also promoting abstinence and faithfulness messages to current and potential clients of prostitutes.

(The awardees must obtain all appropriate approvals required by HHS to purchase any medications.)

• Outreach—Provide educational services in awareness, prevention and treatment of HIV/AIDS among current and potential clients of prostitutes:

1. Develop target population-specific advertisement/health promotion strategies to make this population aware of clinics through peer education and to discourage them from visiting prostitutes.

2. Establish baseline information regarding knowledge of HIV/AIDS transmission and sexual practices of the target population.

3. Assess attitudes and behaviors within the target population.

4. Develop and implement long-term behavioral-change communication (BCC) campaigns, including to make visiting prostitutes outside of community social norms.

5. Promote condom distribution and correct and consistent use for populations engaged in high-risk behavior.⁴ Awardees may not implement condom social marketing aimed at prostitutes without also promoting abstinence and faithfulness messages to current and potential clients of prostitutes.

⁴ Behaviors that increase risk for HIV transmission including engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

• Develop and implement behavior change strategies and long-term campaigns, including information; education and communication (IEC); targeted accessibility planning; and training programs for prostitutes who are seeking alternative means to address economic needs.

• Management and Supervision—Manage and supervise clinic operations and staff who perform CD4 counts:

1. Implement report-writing requirements.

2. Develop and implement a financial management system.

3. Engage in strategic planning.

4. Network with local partners within the private and public sector to ensure an effective patient referral system between confidential VCT and ART networks for patients who test HIV-positive.

Cross-Border Collaboration: Recipient will establish partnerships with agencies in the bordering country of the Dominican Republic (DR) to provide outreach to migrant prostitutes along the Haiti/DR border. Monitoring and Evaluation—Implement monitoring and evaluation strategies to assess programmatic effectiveness, including:

1. Number of the target population accessing clinical care.

2. Number of referrals made to appropriate prevention, treatment, and care and support care networks.

3. Number of prevention promotion activities held, including events to discourage men from visiting prostitutes.

4. Number and findings of participant evaluations.

You may include additional information in the application appendices. The appendices will not count toward the narrative page limit. This additional information includes:

• Budget Justification (for first year only)

• Curriculum Vitas or Resumes

• Organizational Charts

• Letters of Support

The budget justification will not count in the narrative page limit.

You must have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/grantmain.htm.

If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 29, 2005.

Explanation of Deadlines: Applications must be received in the CDC Procurement and Grants Office by 4 p.m. Eastern Time on the deadline date.

You may submit your application electronically at www.grants.gov. We consider applications completed on-line through Grants.gov formally submitted when the applicant organization's Authorizing Official electronically submits the application to www.grants.gov. We will consider electronic applications as having met the deadline if the applicant organization's Authorizing Official has submitted the application electronically to Grants.gov on or before the deadline date and time.

If you submit your application electronically through Grants.gov, the application will be electronically time/date stamped, which will serve as receipt of submission. You will receive an e-mail notice of receipt when HHS/CDC receives the application.

If you submit your application by the United States Postal Service or commercial delivery service, you must ensure that the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will be discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Antiretroviral Drugs—Funds received from this announcement will not be used for the purchase of antiretroviral drugs for treatment of established HIV infection (with the exception of nevirapine in Prevention of Mother-to-Child Transmission (PMTCT) cases and with prior written approval), occupational exposures, and non-occupational exposures and will not be used for the purchase of machines and reagents to conduct the necessary laboratory monitoring for patient care.

• Needle Exchange—No funds appropriated under this act shall be used to carry out any program of distributing sterile needles or syringes for the hypodermic injection of any illegal drug.

• Funds may be spent for reasonable program purposes, including personnel, travel, supplies, and services. Equipment may be purchased if deemed necessary to accomplish program objectives; however, prior approval by CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program; however, the applicant must perform a substantial portion of the activities (including program management and operations, and delivery of prevention services for which funds are required).

• You must obtain an annual audit of these HHS/CDC funds (program-specific audit) by a U.S.-based audit firm with international branches and current licensure/authority in-country, and in accordance with International Accounting Standards or equivalent standard(s) approved in writing by HHS/CDC.

• A fiscal Recipient Capability Assessment may be required, prior to or post award, to review the applicant's business management and fiscal capabilities regarding the handling of U.S. Federal funds.

Prostitution and Related Activities: The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. § 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV. 6. Other Submission Requirements

Application Submission Address: Electronic Submission:

HHS/CDC strongly encourages applicants to submit applications electronically at www.grants.gov. Applicants can download the application package from www.grants.gov. Applicants are able to complete it off-line, and then upload and submit the application via the Grants.gov web site. We will not accept e-mail submissions. If the applicant has technical difficulties in Grants.gov, the applicant can reach customer service by E-mail at support@grants.gov or by phone at 1-800-518-4726 (1-800-518-GRANTS). The Customer Support Center is open from 7 a.m. to 9 p.m. Eastern Time, Monday through Friday.

HHS/CDC recommends that submittal of the application to Grants.gov should be early to resolve any unanticipated difficulties prior to the deadline. Applicants may also submit a back-up paper submission of the application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that the applicant submit the grant application by using Microsoft Office products (e.g., Microsoft Word, Microsoft Excel, etc.). If the applicant does not have access to Microsoft Office products, the applicant may submit a PDF file. The applicant may find directions for creating PDF on the Grants.gov web site. Use of file formats other than Microsoft Office or PDF could make your file unreadable for our staff.

OR

Submit the original and two hard copies of your application by mail or express delivery service to the following address:

Technical Information Management-AA158, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Need (20 Points)

To what extent does the applicant justify the need for this program within the target community?

2. Monitoring Evaluation and Reporting (20 points)

Does the applicant describe a system for reviewing and adjusting program activities based on monitoring information? Does the plan include indicators developed for each program milestone and incorporated into the financial and programmatic reports? Are all the indicators drawn from the Emergency Plan for AIDS Relief Indicator Guide, found at http://www.pepfarhaiti.com? Will the system generate financial and program reports to show disbursement of funds, and progress towards achieving the program objectives of the President's Plan for AIDS Relief?

3. Work Plan (20 Points)

Does the applicant describe strategies that are pertinent and match those identified in the five-year strategy of the President's Emergency Plan and activities that are evidence-based, realistic, achievable, measurable and culturally appropriate in Haiti to achieve the goals of the Emergency Plan? Is the plan adequate to carry out the proposed objectives? How complete and comprehensive is the plan for the entire project period? Does the plan include quantitative process and outcome measures?

4. Methods (15 Points)

Are the proposed methods feasible? To what extent will they accomplish the numerical goals of the President's Emergency Plan?

5. Personnel (15 Points)

Do the staff members have appropriate experience, including local language skills? Are the staff roles clearly defined? As described, will the staff be sufficient to accomplish the program goals?

6. Eligibility (10 points)

Organizations indigenous to Haiti must have between three to five years of experience in provision of STI and HIV/AIDS care to prostitutes and their associated sexual partners, and must currently have high coverage in zones with rampant prostitution, including along the border between Haiti and the Dominican Republic. Organizations must be willing and able to undertake campaigns to discourage men from visiting prostitutes.

7. Budget and Justification (Reviewed, but not scored)

Is the budget itemized, well justified and consistent with the five-year strategy and goals of the President's Emergency Plan and Emergency Plan activities in Haiti?

V.2. Review and Selection Process

The HHS/CDC Procurement and Grants Office (PGO) staff will review applications for completeness, and the HHS Global AIDS Program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office in Haiti. The panel can include both Federal and non-Federal participants.

Applications will be funded in order by score and rank determined by the review panel. HHS/CDC will provide justification for any decision to fund out of rank order.

V.3. Anticipated Announcement and Award Dates

October 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

Successful applicants must comply with the administrative requirements outlined in 45 CFR Part 74, as appropriate.

The following additional requirements apply to this project:

• AR-4 HIV/AIDS Confidentiality Provisions

• AR-5 HIV Program Review Panel Requirements

• AR-6 Patient Care

• AR-8 Public Health System Reporting Requirements

• AR-9 Paperwork Reduction Act Requirements

• AR-10 Smoke-Free Workplace Requirements

• AR-25 Release and Sharing of Data

Applicants may find additional information on these requirements on the HHS/CDC web site at the following Internet address: http://www.cdc.gov/od/pgo/funding/ARs.htm.

For more information on the Code of Federal Regulations, see the National Archives and Records Administration at the following Internet address: http://www.access.gpo.gov/nara/cfr/cfr-table-search.html.

Applicants need to include an additional Certifications form from the PHS5161-1 application in the Grants.gov electronic submission only. Applicants should refer to http://www.cdc.gov/od/pgo/funding/PHS5161-1-Certificates.pdf. Once the applicant has filled out the form, please attach it to the Grants.gov submission as Other Attachment Forms.

VI.3. Reporting Requirements

You must provide HHS/CDC with an original, plus two hard copies of the following reports:

1. Interim progress report, due no less than 90 days before the end of the budget period. The progress report will serve as your non-competing continuation application, and must contain the following elements:

a. Current Budget Period Activities and Objectives.

b. Current Budget Period Financial Progress.

c. New Budget Period Program Proposed Activities and Objectives.

d. Budget and budget narrative with justification.

e. Measures of Effectiveness, including progress against the numerical goals of the President's Emergency Plan for AIDS Relief for Haiti.

f. Additional Requested Information.

2. Annual Progress Reports are due within 30 days of the end of each budget period. The report should detail progress toward achieving program milestones and projected next year activities. You must be develop indicators for each program milestone and incorporate them into the annual financial and programmatic reports. The report should include progress against the numerical goals of the President's Emergency Plan AIDS Relief for Haiti.

3. Financial status report, no more than 90 days after the end of the budget period. The financial report must show obligations, disbursements and funds remaining by program activity. The applicant must develop indicators for each program milestone and incorporate them into the periodic financial and programmatic reports. The applicant must draw indicators from The Emergency Plan Indicator Guide.

4. Final performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Kathy Grooms, Country Program Officer, CDC, NCHSTP, Global AIDS Program, U.S. Department of Health and Human Services, 1600 Clifton Road, MS E-04, Atlanta, GA 30333, Telephone: 404-639-8394, Email: Kgrooms@cdc.gov.

For financial, grants management, or budget assistance, contact: Vivian Walker, Grants Management Specialist, CDC Procurement and Grants Office, U.S. Department of Health and Human Services, 2920 Brandywine Road, Atlanta, GA 30341, Telephone: 770-488-2724, E-mail: VEW4@CDC.GOV.

VIII. Other Information

Applicants can find this and other HHS funding opportunity announcements on the HHS/CDC Web site, Internet address: http://www.cdc.gov (Click on “Funding” then “Grants and Cooperative Agreements”), and on the Web site of the HHS Office of Global Health Affairs, Internet address: http://www.globalhealth.gov.

Dated: August 31, 2005.
William P. Nichols,
Director, Procurement and Grants Office, Centers for Disease Control and Prevention.

[FR Doc. 05-17673 Filed 9-6-05; 8:45 am]

BILLING CODE 4163-18-P